DEPARTMENT OF TRANSPORTATION

Federal Aviation Administration

[Summary Notice No. PE-2000-75]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption Part 11 of Title 14, Code of Federal Regulations (14 CFR), this notice contains a summary of certain petitions seeking relief from specified requirements of 14 CFR, dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before January 8, 2000.

ADDRESSES: Send comments on any petition to the Docket Management System, U.S. Department of Transportation, Room Plaza 401, 400 Seventh Street, SW., Washington, DC 20590-0001. You must identify the docket number FAA-2000-XXXX at the beginning of your comments. If you wish to receive confirmation that FAA received your comments, include a self-addressed, stamped postcard.

You may also submit comments through the Internet to ­http://dms.dot.gov. You may review the public docket containing the petition, any comments received, and any final disposition in person in the Dockets Office between 9:00 a.m. and 5:00 p.m., Monday through Friday, except Federal holidays. The Dockets Office (telephone 1-800-647-5527) is on the plaza level of the NASSIF Building at the Department of Transportation at the above address. Also, you may review public dockets on the Internet at http://dms.dot.gov.

FOR FURTHER INFORMATION CONTACT: Forest Rawls (202) 267-8033, or Vanessa Wilkins (202) 267-8029, Office of Rulemaking (ARM-1), Federal Aviation Administration, 800 Independence Avenue, SW., Washington, DC 20591.

This notice is published pursuant to 14 CFR 11.85 and 11.91 of Part 11.

Issued in Washington, DC, on December 13, 2000.
Donald P. Byrne,
Assistant Chief Counsel for Regulations.

Dispositions of Petitions

Docket No.: FAA-2000-8092.

Petitioner: Ms. Elizabeth C. Huck.

Section of 14 CFR Affected: 14 CFR 135.251, 135.255, 135.353, and appendixes I and J to part 121.

Description of Relief Sought/Disposition: To permit Ms. Huck to a conduct local sightseeing flight at Butler County Regional airport for a charitable event benefiting the Soroptimist International of Cincinnati club on a date before November 1, 2001, to be determined by you and the passenger(s), for compensation or hire, without complying with certain anti-drug and alcohol misuse prevention requirements of part 135. Grant, 11/03/2000, Exemption No. 7377

Docket No.: FAA-2000-8000.

Petitioner: Delta Air Lines, Inc.

Section of 14 CFR Affected: 14 CFR 121.434(c)(1)(ii).

Description of Relief Sought/Disposition: To permit Delta to substitute a qualified and authorized check airman in place of an FAA inspector to observe a qualifying PIC who is completing initial or upgrade training specified in § 121.424 during at least one flight leg that includes a takeoff and a landing. Grant, 10/24/2000, Exemption No. 7376

Docket No.: FAA-2000-7981.

Petitioner: Air Transport Association of America.

Section of 14 CFR Affected: 14 CFR 121.583(a).

Description of Relief Sought/Disposition: To permit ATA member airlines and other similarly situated part 121 certificate holders to allow FAA air traffic controllers and certain technical representatives to ride in the cockpit observer's seat of all-cargo aircraft when those aircraft do not meet the passenger-carrying requirements of part 121 except as described in §§ 1212.583(b), 121.583(c), and 121.583(d). Grant, 10/30/2000, Exemption No. 5562D

Docket No.: FAA-2000-FAA-2000-7980.

Petitioner: Air Transport Association of America.

Section of 14 CFR Affected: 14 CFR 121.311(b).

Description of Relief Sought/Disposition: To permit ATA-member airlines and other similarly situated part 121 operators to permit qualified flight attendants not required by § 121.391(c) to perform duties related to the safety of the airplane and its occupants during aircraft movement on the surface. Grant, 10/24/2000, Exemption No. 5533D

[FR Doc. 00-32184 Filed 12-15-00; 8:45 am]

BILLING CODE 4910-13-M